DEPARTMENT OF HOUSING AND URBAN DEVELOPMENT

[Docket No. FR-5750-N-36]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Air Force: Ms. Connie Lotfi, Air Force Real Property Agency, 143 Billy Mitchell Blvd., San Antonio, TX 78226, (210) 925-3047; COE: Mr. Scott Whiteford, Army Corps of Engineers, Real Estate, CEMP-CR, 441 G Street NW., Washington, DC 20314; (202) 761-5542; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL 33021; (443) 223-4639; Navy: Mr. Steve Matteo, Department of the Navy, Asset Management Division, Naval Facilities Engineering Command, Washington Navy Yard, 1330 Patterson Ave. SW., Suite 1000, Washington, DC 20374; (202) 685-9426 (These are not toll-free number).

Dated: August 28, 2014.
Brian P. Fitzmaurice,
Director, Division of Community Assistance, Office of Special Needs Assistance Programs.

TITLE V, FEDERAL SURPLUS PROPERTY PROGRAM FEDERAL REGISTER REPORT FOR 09/05/2014

Suitable/Available Properties

Building

Arkansas

Blue Mountain House #1

10152 Outlet Park Rd.

Havana AR 72842

Landholding Agency: COE

Property Number: 31201430009

Status: Unutilized

Comments: off-site removal only; no future agency need; difficult to relocate due to structure type; 1,850 sq. ft.; storage; poor condition; contact COE for more information.

Blue Mountain House #1

10152 Outlet Park Rd.

Havana AR 72842

Landholding Agency: COE

Property Number: 31201430010

Status: Unutilized

Comments: off-site removal only; no future agency need; difficult to relocate due to structure type; 1,752 sq. ft.; poor condition; contact COE for more information.

Tract 12-113—Hebert Bernard

House

102 Groinger Dr.

Hot Springs AR 71901

Landholding Agency: Interior

Property Number: 61201410004

Status: Excess

Comments: off-site removal only; 1,269 sq. ft.; residential; severe deterioration; structurally unsound; contact Interior for more info.

Colorado

Turley House

Reclamation

Grand Junction CO 81503

Landholding Agency: Interior

Property Number: 61201420004

Status: Unutilized

Directions: House; Garage/Carport; Shop/Shed

Comments: off-site removal only; no future service need; 3,603 total sq. ft.; structural deficiencies; contact interior for more information.

Michigan

Bergland Middle Building

Bergland Cultural Center Site

Bergland MI 49910

Landholding Agency: Agriculture

Property Number: 15201430017

Status: Unutilized

Comments: 1,025 sq. ft., storage; 120+ months vacant; deteriorating; building on National Register Site; contact Agriculture for more information.

Ontonagon Ranger House

1205 Rockland Road

Ontonagon MI 49953

Landholding Agency: Agriculture

Property Number: 15201430018

Status: Unutilized

Comments: 1,570 sq. ft., residential; 96+ months vacant; poor conditions; contact Agriculture for more information.

Montana

0296004600B

CANFER Townsend Shop

Townsend MT 59644

Landholding Agency: Interior

Property Number: 61201410008

Status: Unutilized

Comments: off-site removal only; no future agency need; 1,200 sq. ft.; 200+ months vacant; storage; contact Interior for more info.

Oregon

North Unit ID/Duplex 3 (504)

Apt. 1 & 2 R0112000600B

616 NW Lindberg

Madras OR 97741

Landholding Agency: Interior

Property Number: 61201420005

Status: Unutilized

Comments: off-site removal only; no future agency need; 2,000 sq. ft.; 6+ months vacant; poor conditions; contact Interior for more info.

Tennessee

Nashville IAP, Fac. 808

240 Knapp Blvd.

Nashville TN 37217

Landholding Agency: Air Force

Property Number: 18201430036

Status: Underutilized

Comments: off-site removal only; removal may be difficult due to structure type/size no future agency need; 3,016 sq.; warehouse; moderate to poor conditions; secured area; contact AF for more information.

Nashville IAP, Fac. 809

240 Knapp Blvd.

Nashville TN 37217

Landholding Agency: Air Force

Property Number: 18201430037

Status: Underutilized

Comments: off-site removal only; no future agency need; removal may be difficult; 3,016 sq. ft.; warehouse; moderate conditions; secured area; contact Air Force for more information.

Unsuitable Properties

Building

Alabama

420

5401 East Lake Blvd.

Birmingham AL 35217

Landholding Agency: Air Force

Property Number: 18201430038

Status: Unutilized

Directions: 420

Comments: public access denied and no alternative without compromising national security.

Reasons: Secured Area

Alaska

Yakutat Airport

Storage Building

Yakutat AK 99689

Landholding Agency: GSA

Property Number: 54201430009

Status: Excess

GSA Number: 9-CA-AK-00011-S

Directions: Disposal Agency: GSA; Landholding Agency: Commerce

Comments: property located within an airport runway clear zone.

Reasons: Within airport runway clear zone

California

Trailer 2777

7000 East Ave.

Livermore CA 94550

Landholding Agency: Energy

Property Number: 41201430002

Status: Underutilized

Comments: public access denied & no alternative without compromising National Security.

Reasons: Secured Area

Building 251

7000 East Ave.

Livermore CA 94550

Landholding Agency: Energy

Property Number: 41201430003

Status: Underutilized

Comments: public access denied & no alternative without compromising national security.

Reasons: Secured Area

Building 22187

MCB Camp Pendleton

Camp Pendleton CA

Landholding Agency: Navy

Property Number: 77201430010

Status: Excess

Comments: public access denied and no alternative method to gain access without compromising national security.

Reasons: Secured Area

Building 16074

Marine Corps Base Camp Pendleton

Camp Pendleton CA

Landholding Agency: Navy

Property Number: 77201430011

Status: Excess

Comments: public access denied and no alternative method to gain access without compromising national security.

Reasons: Secured Area

Building 200071

Marine Corps Base Camp Pendleton

San Diego CA

Landholding Agency: Navy

Property Number: 77201430012

Status: Excess

Comments: public access denied and no alternative method to gain access without compromising national security.

Reasons: Secured Area

Illinois

Petroleum Operations Lab

Abraham Lincoln Capital Airport

Springfield IL 62707

Landholding Agency: Air Force

Property Number: 18201430044

Status: Unutilized

Comments: public access denied and no alternative without compromising national security.

Reasons: Secured Area

Maryland

3216

Annapolis Street

Joint Base Andrews MD 20762

Landholding Agency: Air Force

Property Number: 18201430034

Status: Excess

Directions: 3216

Comments: public access denied and no alternative without compromising national security.

Reasons: Secured Area

3215

Annapolis Street

Joint Base Andrews MD 20762

Landholding Agency: Air Force

Property Number: 18201430043

Status: Excess

Directions: 3215

Comments: public access denied and no alternative without compromising national security.

Reasons: Secured Area

3213

Annapolis Street

Joint Base Andrews MD 20762

Landholding Agency: Air Force

Property Number: 18201430051

Status: Excess

Directions: 3213

Comments: public access denied and no alternative without compromising national security.

Reasons: Secured Area

New Jersey

Building 261, Water Supply

Building

400 Langley Road

Egg Harbor NJ 08234

Landholding Agency: Air Force

Property Number: 18201430047

Status: Unutilized

Comments: public access denied & no alternative without compromising national security.

Reasons: Secured Area

Building 137

400 Langley Road

EGG Harbor NJ 08234

Landholding Agency: Air Force

Property Number: 18201430048

Status: Unutilized

Comments: public access denied and no alternative without compromising national security.

Reasons: Secured Area

New York

Bldg. 325

NWIRP Calverton

Calverton NY 11933

Landholding Agency: Navy

Property Number: 77201430013

Status: Excess

Comments: documented deficiencies: exterior walls cracking; concrete foundation crumbling; structural damage; clear threat to personal physical safety.

Reasons: Extensive deterioration

South Carolina

16464

165 Bates Street

Joint Base Charleston SC 29404

Landholding Agency: Air Force

Property Number: 18201430040

Status: Unutilized

Comments: public access denied & no alternative without compromising National Security.

Reasons: Secured Area

165

165 Bates Avenue

Joint Base Charleston SC 29402

Landholding Agency: Air Force

Property Number: 18201430041

Status: Unutilized

Comments: public access denied & no alternative without compromising National Security.

Reasons: Secured Area

1994

110 Lawson Drive

Joint Base Charleston SC 29404

Landholding Agency: Air Force

Property Number: 18201430042

Status: Underutilized

Comments: public access denied & no alternative without compromising National Security.

Reasons: Secured Area

Texas

932

Lackland AFB

San Antonio TX 78236

Landholding Agency: Air Force

Property Number: 18201430049

Status: Unutilized

Directions: 932

Comments: public access denied and no alternative without compromising national security.

Reasons: Secured Area

West Virginia

Facility #115, Troop Camp

222 Sabre Jet Blvd.

Martinsburg WV 25405

Landholding Agency: Air Force

Property Number: 18201430039

Status: Excess

Comments: public access denied and no alternative without compromising national security.

Reasons: Secured Area

Facility #122, Res Forces Opl

Training

222 Sabre Jet Blvd.

Martinsburg WV 25405

Landholding Agency: Air Force

Property Number: 18201430045

Status: Excess

Comments: public access denied & no alternative without compromising National Security.

Reasons: Secured Area

Facility #103, BE Grand Fclty.

222 Sabre Jet Blvd.

Martinsburg WV 25405

Landholding Agency: Air Force

Property Number: 18201430046

Status: Excess

Comments: public access denied & no alternative without compromising National Security.

Reasons: Secured Area

Fac. #133,Shed Sup & Equip Base

222 Sabre Jet Blvd.

Martinsburg WV 25405

Landholding Agency: Air Force

Property Number: 18201430050

Status: Excess

Comments: public access denied and no alternative without compromising national security.

Reasons: Secured Area

[FR Doc. 2014-20967 Filed 9-4-14; 8:45 am]

BILLING CODE 4210-67-P